DEPARTMENT OF THE INTERIOR

Minerals Management Service

30 CFR Parts 203, 250, 251, 256, 280, 281, and 290

[Docket ID: MMS-2007-OMM-0065]

RIN 1010-AD43

Electronic Payment of Fees for Outer Continental Shelf Activities

AGENCY: Minerals Management Service (MMS), Interior.

ACTION: Final rule.

SUMMARY: This final rule requires that all lessees, operators, permittees, and right-of-way holders pay all fees for processing plans, applications, and permits electronically. This rule will aid industry in payment processing and reduce payment processing errors. This rule will improve MMS processing efficiency and facilitate the correction of industry payment errors. The MMS will not accept checks, money orders, or cashier's checks for payment of fees after the effective date of this final rule. The final rule also adjusts certain cost recovery fees for inflation.

DATES: Effective Date: This rule becomes effective on September 24, 2008.

FOR FURTHER INFORMATION CONTACT: Kirk Malstrom, Office of Offshore Regulatory Programs, Regulations and Standards Branch, (703) 787-1751.

SUPPLEMENTARY INFORMATION:

Background

The MMS published a proposed rule on December 21, 2007 (72 FR 72648), that would require all lessees, operators, pipeline right-of-way (ROW) holders, and permittees to submit payments for cost recovery service fees electronically. The comment period for the proposed rule closed February 19, 2008, and Chevron submitted the one and only comment on the proposed rule. The commenter supports the concept of submitting fees electronically through Pay.gov. The commenter stated concerns about only using Pay.gov and provided rule language to allow alternatives for a different payment portal if so needed. The MMS believes Pay.gov to be the best option for paying electronically. Pay.gov is the U.S. Treasury's government-wide collection portal which was developed specifically for Federal agencies to process collections electronically using Internet technologies.

The MMS proposed the rulemaking to improve the application and fee process and to alleviate industry payment errors associated with non-electronic payments. Most errors encountered are associated with check payments. Examples of check payment errors include incorrect date, incorrect payment amount, check sent to a different address than application, and closing an account shortly after the check is sent to MMS. Check payment errors can result in delay or lead to denial of an application or permit due to non-payment. Rectifying a check payment error requires additional time and expense from industry, MMS, or both. Electronic payments are more efficient and less prone to mistakes than check payments.

This final rule has the same requirements as the proposed rule, with the exception of updating the cost recovery fees for inflation as allowed by 30 CFR 250.125(a). The proposed rule clearly states that the final rule will contain the updated fees. The following explains the methodology used to update the fees for inflation.

There are two sets of fees that are adjusted. The first set of fees is from the 2005 cost recovery rule published August 25, 2005 (70 FR 49871), and the second set of fees is from the 2006 cost recovery rule published July 19, 2006 (71 FR 40904). The fees in the 2005 cost recovery rule have been adjusted with inflation rates from 2005-2007 as shown in the following formula:

2005 Cost Recovery Fee Amount (Current Fee) | + | 2005 Annual Inflation Rate (AIR) of 3.23% | = | Adjusted Fee for 2005 AIR | + | 2006 AIR of 3.16% | = | Adjusted Fee for 2006 AIR | + | 2007 AIR of 2.66% | = | 2005 Cost Recovery Fee Adjusted for 2007 AIR (Updated Fee)

To update the 2005 cost recovery rule fees, we started with the 2005 fee amount and increased it by the 2005 inflation rate of 3.23 percent. We then used that adjusted amount and increased it by the 2006 inflation rate of 3.16 percent. Finally, we used that latest adjusted amount and increased it by the 2007 inflation rate of 2.66 percent. The results were rounded to the nearest dollar and are part of the new fee amounts in this rule. The 2005 cost recovery rule fees increase by approximately 9 percent.

The fees in the 2006 cost recovery rule are updated with inflation rates from 2006 and 2007 as shown in the following formula:

2006 Cost Recovery Fee Amount (Current Fee) | + | 2006 Annual Inflation Rate (AIR) of 3.16% | = | Adjusted Fee for 2006 AIR | + | 2007 AIR of 2.66% | = | 2006 Cost Recovery Fee Adjusted for 2007 AIR (Updated Fee)

To update the 2006 cost recovery rule fees, we used the fee amount set in the 2006 rule and increased it by the 2006 inflation rate of 3.16 percent. We then used that adjusted rate and increased it by the 2007 inflation rate of 2.66 percent. The results were rounded to the nearest dollar and are part of the new fee amounts in this rule. The 2006 cost recovery rule fees increase by approximately 6 percent.

The inflation rates are calculated from the percent difference between the gross domestic product for one year and the previous year as contained in the Bureau of Economic Analysis (BEA) Table 1.1.9., Implicit Price Deflators for Gross Domestic Product. The 2007 inflation rate of 2.66 percent is current as of the March 27, 2008, BEA table. We expect BEA to revise the rate during future updates and, as in the last few years, we expect revisions to be upward. Even if BEA revises the inflation rate, MMS will retain the published fee schedule until the next update or fee recalculation. The MMS also made a few minor additional changes to the proposed rule for clarity.

Procedural Matters

Regulatory Planning and Review (Executive Order (E.O.) 12866)

This final rule is not a significant rule as defined by E.O. 12866 and is not subject to review under E.O. 12866.

(1) This final rule will not have an annual effect of $100 million or more on the economy. It will not adversely affect in a material way the economy, productivity, competition, jobs, the environment, public health or safety, or State, local, or tribal governments or communities. This final rule will require all fees be paid electronically through Pay.gov and adjust certain cost recovery fees by inflation only. This rulemaking does slightly increase costs due to inflation of the cost recovery fees; however, the total annual increase in fees industry-wide is estimated at $800,000. No new equipment is required by this rulemaking.

(2) This final rule will not create a serious inconsistency or otherwise interfere with an action taken or planned by another agency. By requiring electronic payment through the Pay.gov system, MMS is supporting the President's Management Agenda of expanding electronic government or “E-Government.”

(3) This final rule will not alter the budgetary effects of entitlements, grants, user fees or loan programs, or the rights or obligations of their recipients.

(4) This final rule will not raise novel legal or policy issues.

Regulatory Flexibility Act

The Department of the Interior certifies that this final rule will not have a significant economic effect on a substantial number of small entities under the Regulatory Flexibility Act (5 U.S.C. 601 et seq.).

The changes in the rule will affect lessees, operators of leases, pipeline right-of-way (ROW) holders in the OCS, and permittees. This could include about 130 active Federal oil and gas lessees, 88 pipeline ROW holders, and 10 geophysical companies. Small lessees that operate under this rule mostly fall under the Small Business Administration's (SBA) North American Industry Classification System (NAICS) Codes 211111, Crude Petroleum and Natural Gas Extraction, and 213111, Drilling Oil and Gas Wells. For these NAICS code classifications, a small company is one with fewer than 500 employees. Based on these criteria, an estimated 70 percent of these companies are considered small.

A pipeline ROW holder (non-producer) is a small entity if it is a liquid pipeline company with fewer than 1,500 employees, or a natural gas pipeline company with gross annual receipts of $6.5 million or less. We estimate that 18 entities could be categorized as small independent pipeline companies in the sense that they provide transportation services for several non-major oil or gas producers. These companies are classified by NAICS codes 486110, Pipeline Transportation of Crude Oil, and 486210, Pipeline Transportation of Natural Gas.

The SBA classifies geophysical surveying and mapping service companies under the NAICS Code 541360. The criteria for determining a small entity for this classification code is annual receipts of less than $4.5 million. All of the 10 geophysical companies potentially affected by this final rule have annual receipts greater than $4.5 million.

There are 228 companies affected by this proposed rule, of which 109 would be considered small businesses. This rule, therefore, affects a substantial number of small entities.

The changes in the rule will not have a significant economic effect on a substantial number of small entities. There is no credit card or automated clearing house (ACH) fee for using Pay.gov. We do not expect any company to incur significant other costs because no special software or other equipment is required to pay through Pay.gov or ACH. We have no information that any company will incur any costs associated with accounting processes, changes in business procedures, or other compliance costs.

Also, the cost recovery fees are being updated with only a small percentage rate accounting for inflation only. In the fiscal year 2007, MMS collected approximately $12 million in cost recovery fees from industry. After a simple economic analysis, once the fees are adjusted for inflation there will only be an industry-wide estimated annual increase of $800,000. The increases in fees are negligible compared to the costs of operating on the OCS and will not stop a company of any size from operating on the OCS.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the actions of MMS, call 1-888-734-3247. You may comment to the Small Business Administration without fear of retaliation.

Small Business Regulatory Enforcement Fairness Act

The final rule is not a major rule under 5 U.S.C. 804(2) of the Small Business Regulatory Enforcement Fairness Act. This final rule:

a. Will not have an annual effect on the economy of $100 million or more.

b. Will not cause a major increase in costs or prices for consumers, individual industries, Federal, State, or local government agencies, or geographic regions.

c. Will not have significant adverse effects on competition, employment, investment, productivity, innovation, or the ability of U.S.-based enterprises to compete with foreign-based enterprises.

Unfunded Mandates Reform Act

This final rule will not impose an unfunded mandate on State, local, or tribal governments or the private sector of more than $100 million per year. The final rule will not have a significant or unique effect on State, local, or tribal governments or the private sector. A statement containing the information required by the Unfunded Mandates Reform Act (2 U.S.C. 1531 et seq.) is not required.

Takings Implication Assessment (E.O. 12630)

Under the criteria in E.O. 12630, this rule does not have significant takings implications. The rule is not a governmental action capable of interference with constitutionally protected property rights. A Takings Implication Assessment is not required.

Federalism (E.O. 13132)

Under the criteria in E.O. 13132, this rule does not have federalism implications. This rule will not substantially and directly affect the relationship between the Federal and State governments. To the extent that State and local governments have a role in OCS activities, this rule will not affect that role. A Federalism Assessment is not required.

Civil Justice Reform (E.O. 12988)

This final rule complies with the requirements of E.O. 12988. Specifically, this rule:

(a) Meets the criteria of section 3(a) requiring that all regulations be reviewed to eliminate errors and ambiguity, be written to minimize litigation, and promote simplification and burden reduction; and

(b) Meets the criteria of section 3(b)(2) requiring that all regulations be written in clear language and contain clear legal standards.

Consultation With Indian Tribes (E.O. 13175)

Under the criteria in E.O. 13175, we have evaluated this rule and determined that it has no substantial direct effects on federally recognized Indian tribes. There are no Indian or tribal lands in the OCS.

Paperwork Reduction Act

The rule contains no new reporting or recordkeeping requirements, and an Office of Management and Budget (OMB) submission under section 3507(d) of the Paperwork Reduction Act (PRA 44 U.S.C. 3507(a)) is not required. The PRA provides that an agency may not conduct or sponsor a collection of information unless it displays a currently valid OMB control number. Until OMB approves a collection of information and assigns a control number, you are not required to respond. The regulations will specify that all operators, lessees, and ROW holders must now use Pay.gov for every fee that will be submitted to MMS. The revisions in this rulemaking refer to, but do not change, information collection requirements in numerous current regulations. The OMB approved the referenced information collection requirements under OMB Control Numbers 1010-0071, 1010-0114, 1010-0151, 1010-0141, 1010-0067, 1010-0043, 1010-0059, 1010-0149, 1010-0050, 1010-0051, 1010-0086, 1010-0142, 1010-0048, 1010-0006, and 1010-0072, respectively.

National Environmental Policy Act

This final rule does not constitute a major Federal action significantly affecting the quality of the human environment. The MMS has analyzed this rule under the criteria of the National Environmental Policy Act, 516 Departmental Manual (DM) 2.3, and 516 DM 2, Appendix 1, and determined that it falls within the categorical exclusion for “regulations * * * that are of an administrative, financial, legal, technical, or procedural nature.” The MMS Categorical Exclusion Review for this action concluded that the provisions of this rule are administrative. Furthermore, MMS concluded that the rulemaking does not involve an extraordinary circumstance set forth in 516 DM 2, Appendix 2. For these reasons, preparation of an environmental assessment or environmental impact statement is not required.

Data Quality Act

In developing this rule we did not conduct or use a study, experiment, or survey requiring peer review under the Data Quality Act (Pub. L. 106-554, app. C § 515, 114 Stat. 2763, 2763A-153-154).

Effects on the Energy Supply (E.O. 13211)

This rule is not a significant energy action under the definition in E.O. 13211. A Statement of Energy Effects is not required.

Clarity of This Regulation

We are required by E.O. 12866, E.O. 12988, and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To better help us revise the rule, your comments should be as specific as possible. For example, you should tell us the numbers of the sections or paragraphs that you find unclear, which sections or sentences are too long, the sections where you feel lists or tables would be useful, etc.

List of Subjects

30 CFR Part 203

Continental shelf, Mineral royalties, Oil and gas exploration, Public lands—mineral resources.

30 CFR Part 250

Administrative practice and procedure, Continental shelf, Pipelines, Public lands—mineral resources, Public lands—rights-of-way, Reporting and recordkeeping requirements.

30 CFR Part 251

Continental shelf, Public lands—mineral resources, Reporting and recordkeeping requirements.

30 CFR Part 256

Administrative practice and procedure, Public lands—mineral resources, Reporting and recordkeeping requirements.

30 CFR Part 280

Continental Shelf, Public lands—mineral resources, Reporting and recordkeeping requirements.

30 CFR Part 281

Administrative practice and procedure, Continental shelf, Public lands—mineral resources, Reporting and recordkeeping requirements.

30 CFR Part 290

Administrative practice and procedure.

Dated: August 8, 2008.
C. Stephen Allred,
Assistant Secretary—Land and Minerals Management.

For the reasons stated in the preamble, the Minerals Management Service (MMS) amends 30 CFR parts 203, 250, 251, 256, 280, 281, and 290 as follows:

PART 203—RELIEF OR REDUCTION IN ROYALTY RATES

1. The authority citation for part 203 is revised to read as follows:

Authority: 25 U.S.C. 396; 25 U.S.C. 2107; 30 U.S.C. 189, 241; 30 U.S.C. 359; 30 U.S.C. 1023; 30 U.S.C. 1751; 31 U.S.C. 9701; and 43 U.S.C. 1334.

2. Revise § 203.3 and its heading to read as follows:

§ 203.3 Do I have to pay a fee to request royalty relief?

When you submit an application or ask for a preview assessment, you must include a fee to reimburse us for our costs of processing your application or assessment. Federal policy and law require us to recover the cost of services that confer special benefits to identifiable non-Federal recipients. The Independent Offices Appropriation Act (31 U.S.C. 9701), Office of Management and Budget Circular A-25, and the Omnibus Appropriations Bill (Pub. L. 104-134, 110 Stat. 1321, April 26, 1996) authorize us to collect these fees.

(a) We will specify the necessary fees for each of the types of royalty relief applications and possible MMS audits in a Notice to Lessees. We will periodically update the fees to reflect changes in costs, as well as provide other information necessary to administer royalty relief.

(b) You must file all payments electronically through the Pay.gov Web site and you must include a copy of the Pay.gov confirmation receipt page with your application or assessment. The Pay.gov Web site may be accessed through a link on the MMS Offshore Web site at: http://www.mms.gov/offshore/ homepage or directly through Pay.gov at: https://www.pay.gov/paygov/.

PART 250—OIL AND GAS AND SULPHUR OPERATIONS IN THE OUTER CONTINENTAL SHELF

3. The authority citation for part 250 continues to read as follows:

Authority: 31 U.S.C. 9701, 43 U.S.C. 1334.

4. Revise the table in § 250.125(a) to read as follows:

§ 250.125 Service fees.

(a) * * *

Service Fee Table
Service—processing of the following: | Fee amount | 30 CFR citation
(1) Change in Designation of Operator | $164 | § 250.143(d).
(2) Right-of-Use and Easement for State lessee | $2,569 | § 250.165.
(3) Suspension of Operations/Suspension of Production (SOO/SOP) Request | $1,968 | § 250.171(e).
(4) Exploration Plan (EP) | $3,442 for each surface location; no fee for revisions | § 250.211(d).
(5) Development and Production Plan (DPP) or Development Operations Coordination Document (DOCD) | $3,971 for each well proposed; no fee for revisions | § 250.241(e).
(6) Deepwater Operations Plan | $3,336 | § 250.292(p).
(7) Conservation Information Document | $25,629 | § 250.296(a).
(8) Application for Permit to Drill (APD; Form MMS-123) | $1,959 for initial applications only; no fee for revisions | § 250.410(d); § 250.411; § 250.460; § 250.513(b); § 250.515; § 250.1605; § 250.1617(a); § 250.1622.
(9) Application for Permit to Modify (APM; Form MMS-124) | $116 | § 250.460; § 250.465(b); § 250.513(b); § 250.515; § 250.613(b); § 250.615; § 250.1618(a); § 250.1622; § 250.1704(g).
(10) New Facility Production Safety System Application for facility with more than 125 components | $5,030 A component is a piece of equipment or ancillary system that is protected by one or more of the safety devices required by API RP 14C (incorporated by reference as specified in § 250.198); $13,238 additional fee will be charged if MMS deems it necessary to visit a facility offshore, and $6,884 to visit a facility in a shipyard | § 250.802(e).
(11) New Facility Production Safety System Application for facility with 25-125 components | $1,218 Additional fee of $8,313 will be charged if MMS deems it necessary to visit a facility offshore, and $4,766 to visit a facility in a shipyard | § 250.802(e).
(12) New Facility Production Safety System Application for facility with fewer than 25 components | $604 | § 250.802(e).
(13) Production Safety System Application—Modification with more than 125 components reviewed | $561 | § 250.802(e).
(14) Production Safety System Application—Modification with 25-125 components reviewed | $201 | § 250.802(e).
(15) Production Safety System Application—Modification with fewer than 25 components reviewed | $85 | § 250.802(e).
(16) Platform Application—Installation—Under the Platform Verification Program | $21,075 | § 250.905(k).
(17) Platform Application—Installation—Fixed Structure Under the Platform Approval Program | $3,018 | § 250.905(k).
(18) Platform Application—Installation—Caisson/Well Protector | $1,536 | § 250.905(k).
(19) Platform Application—Modification/Repair | $3,601 | § 250.905(k).
(20) New Pipeline Application (Lease Term) | $3,283 | § 250.1000(b).
(21) Pipeline Application—Modification (Lease Term) | $1,906 | § 250.1000(b).
(22) Pipeline Application—Modification (ROW) | $3,865 | § 250.1000(b).
(23) Pipeline Repair Notification | $360 | § 250.1008(e).
(24) Pipeline Right-of-Way (ROW) Grant Application | $2,569 | § 250.1015(a).
(25) Pipeline Conversion of Lease Term to ROW | $219 | § 250.1015(a).
(26) Pipeline ROW Assignment | $186 | § 250.1018(b).
(27) 500 Feet From Lease/Unit Line Production Request | $3,608 | § 250.1101(f).
(28) Gas Cap Production Request | $4,592 | § 250.1101(f).
(29) Downhole Commingling Request | $5,357 | § 250.1106(d).
(30) Complex Surface Commingling and Measurement Application | $3,760 | § 250.1202(a); § 250.1203(b); § 250.1204(a).
(31) Simple Surface Commingling and Measurement Application | $1,271 | § 250.1202(a); § 250.1203(b); § 250.1204(a).
(32) Voluntary Unitization Proposal or Unit Expansion | $11,698 | § 250.1303(d).
(33) Unitization Revision | $831 | § 250.1303(d).
(34) Application to Remove a Platform or Other Facility | $4,342 | § 250.1727.
(35) Application to Decommission a Pipeline (Lease Term) | $1,059 | § 250.1751(a) or § 250.1752(a).
(36) Application to Decommission a Pipeline (ROW) | $2,012 | § 250.1751(a) or § 250.1752(a).

* * * * *

5. Revise § 250.126 to read as follows:

§ 250.126 Electronic payment instructions.

You must file all payments electronically through Pay.gov. This includes, but is not limited to, all OCS applications or filing fee payments. The Pay.gov Web site may be accessed through a link on the MMS Offshore Web site at: http://www.mms.gov/offshore/ homepage or directly through Pay.gov at: https://www.pay.gov/paygov/.

(a) If you submitted an application through eWell, you must use the interactive payment feature in that system, which directs you through Pay.gov.

(b) For applications not submitted electronically through eWell, you must use credit card or automated clearing house (ACH) payments through the Pay.gov Web site, and you must include a copy of the Pay.gov confirmation receipt page with your application.

6. Revise § 250.160(h) to read as follows:

§ 250.160 When will MMS grant me a right-of-use and easement, and what requirements must I meet?

* * * * *

(h) You may make the rental payments required by paragraph (g)(1) and (g)(2) of this section on an annual basis, for a 5-year period, or for multiples of 5 years. You must make the first payment electronically through Pay.gov and you must include a copy of the Pay.gov confirmation receipt page with your right-of-use and easement application. You must make all subsequent payments before the respective time periods begin.

* * * * *

PART 251—GEOLOGICAL AND GEOPHYSICAL (G&G) EXPLORATIONS OF THE OUTER CONTINENTAL SHELF

7. The authority citation for part 251 is revised to read as follows:

Authority: 31 U.S.C. 9701, 43 U.S.C. 1334.

8. Revise § 251.5(a) to read as follows:

§ 251.5 Applying for permits or filing Notices.

(a) Permits. You must submit a signed original and three copies of the MMS permit application form (Form MMS-327). The form includes names of persons; the type, location, purpose, and dates of activity; and environmental and other information. A nonrefundable service fee of $2,012 must be paid electronically through Pay.gov at: https://www.pay.gov/paygov/, and you must include a copy of the Pay.gov confirmation receipt page with your application.

* * * * *

PART 256—LEASING OF SULPHUR OR OIL AND GAS IN THE OUTER CONTINENTAL SHELF

9. The authority citation for part 256 is revised to read as follows:

Authority: 31 U.S.C. 9701, 42 U.S.C. 6213, 43 U.S.C. 1334.

10. Revise the table in § 256.63(a) to read as follows:

(a) * * *

Service Fee Table
Service | Fee amount | 30 CFR citation
(1) Record Title/Operating Rights (Transfer) | $186 | § 256.64
(2) Non-required Document Filing | 27 | § 256.64

* * * * *

11. Revise § 256.64(a)(8) to read as follows:

§ 256.64 How to file transfers.

* * * * *

(a) * * *

(8) You must pay electronically through Pay.gov at: https://www.pay.gov/paygov/ the service fee listed in § 256.63 of this subpart and you must include a copy of the Pay.gov confirmation receipt page with your application for approval of any instrument of transfer you are required to file (Record Title/Operating Rights (Transfer) Fee). Where multiple transfers of interest are included in a single instrument, a separate fee applies to each individual transfer of interest. For any document you are not required to file by these regulations but which you submit for record purposes, you must also pay electronically through Pay.gov the service fee listed in § 256.63 (Non-required Document Filing Fee) per lease affected, and you must include a copy of the Pay.gov confirmation receipt page with your document. Such documents may be rejected at the discretion of the authorized officer.

* * * * *

PART 280—PROSPECTING FOR MINERALS OTHER THAN OIL, GAS, AND SULPHUR ON THE OUTER CONTINENTAL SHELF

12. The authority citation for part 280 is revised to read as follows:

Authority: 31 U.S.C. 9701, 43 U.S.C. 1334.

13. Revise § 280.12(a) to read as follows:

§ 280.12 What must I include in my application or notification?

(a) Permits. You must submit to the Regional Director a signed original and three copies of the permit application form (Form MMS-134) at least 30 days before the startup date for activities in the permit area. If unusual circumstances prevent you from meeting this deadline, you must immediately contact the Regional Director to arrange an acceptable deadline. The form includes names of persons; the type, location, purpose, and dates of activity; and environmental and other information. A nonrefundable service fee of $2,012 must be paid electronically through Pay.gov at: https://www.pay.gov/paygov/, and you must include a copy of the Pay.gov confirmation receipt page with your application.

* * * * *

PART 281—LEASING OF MINERALS OTHER THAN OIL, GAS, AND SULPHUR IN THE OUTER CONTINENTAL SHELF

14. The authority citation for part 281 is revised to read as follows:

Authority: 31 U.S.C. 9701, 43 U.S.C. 1334.

15. Revise § 281.41(a)(2) to read as follows:

§ 281.41 Requirements for filing for transfers.

(a) * * *

(2) An application for approval of any instrument required to be filed will not be accepted unless a nonrefundable fee of $50 is paid electronically through Pay.gov at: https://www.pay.gov/paygov/ and a copy of the Pay.gov confirmation receipt page is included with your application. For any document you are not required to file by these regulations but which you submit for record purposes, you must also pay electronically through Pay.gov a nonrefundable fee of $50 per lease affected, and you must include a copy of the Pay.gov confirmation receipt page with your document. Such documents may be rejected at the discretion of the authorized officer.

* * * * *

PART 290—APPEAL PROCEDURES

16. The authority citation for part 290 is revised to read as follows:

Authority: 5 U.S.C. 301; 25 U.S.C. 396, 2107; 30 U.S.C. 189, 359, 1023, 1701 et seq., 1751(a); 31 U.S.C. 3716, 9701; and 43 U.S.C. 1334.

17. Revise § 290.4(b) to read as follows:

§ 290.4 How do I file an appeal?

* * * * *

(b) A nonrefundable processing fee of $150 paid with the Notice of Appeal.

(1) You must pay electronically through Pay.gov at: https://www.pay.gov/paygov/, and you must include a copy of the Pay.gov confirmation receipt page with your Notice of Appeal.

(2) You cannot extend the 60-day period for payment of the processing fee.

[FR Doc. E8-19373 Filed 8-22-08; 8:45 am]

BILLING CODE 4310-MR-P